DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid Office of Management and Budget (OMB) control number. Currently, the OCC is soliciting comment concerning its renewal of an information collection titled, “Municipal Securities Dealers and Government Securities Brokers and Dealers Registration and Withdrawal.” The OCC also is giving notice that it has sent the collection to OMB for review.

DATES: You should submit written comments by March 24, 2010.

ADDRESSES: Communications Division, Office of the Comptroller of the Currency, Mailstop 2-3, Attention: 1557-0184, 250 E Street, SW., Washington, DC 20219. In addition, comments may be sent by fax to (202) 874-5274, or by electronic mail to regs.comments@occ.treas.gov. You can inspect and photocopy comments at the OCC, 250 E Street, SW., Washington, DC 20219. For security reasons, the OCC requires that visitors make an appointment to inspect comments. You may do so by calling (202) 874-4700. Upon arrival, visitors will be required to present valid government-issued photo identification and to submit to security screening in order to inspect and photocopy comments.

Additionally, you should send a copy of your comments to OCC Desk Officer, 1557-0184, by mail to U.S. Office of Management and Budget, 725 17th Street, NW., #10235, Washington, DC 20503, or by fax to (202) 395-6974.

FOR FURTHER INFORMATION CONTACT: You can request additional information from or a copy of the collection from Mary H. Gottlieb, Clearance Officer, (202) 874-5090, Legislative and Regulatory Activities Division (1557-0184), Office of the Comptroller of the Currency, 250 E Street, SW., Washington, DC 20219.

SUPPLEMENTARY INFORMATION: The OCC is proposing to extend OMB approval of the following information collection:

Title: Municipal Securities Dealers and Government Securities Brokers and Dealers Registration and Withdrawal.

OMB Control No.: 1557-0184.

Form Numbers: MSD, MSDW, MSD-4, MSD-5, G-FIN, G-FINW.

Abstract: This information collection is required to satisfy the requirements of the Securities Act Amendments of 1975 ¹ and the Government Securities Act of 1986,² which require that any national bank that acts as a government securities broker/dealer or a municipal securities dealer notify the OCC of its broker/dealer activities. The OCC uses this information to determine which national banks are government and municipal securities broker/dealers and to monitor entry into and exit from government and municipal securities broker/dealer activities by institutions and registered persons. The OCC also uses the information in planning bank examinations.

¹ 15 U.S.C. 78a-80b-17.

² 15 U.S.C. 78o-5.

Type of Review: Extension without change of a currently approved collection.

Affected Public: Businesses or other for-profit; individuals.

Estimated Number of Respondents: 26.

Estimated Total Annual Responses: 920.

Frequency of Response: On occasion.

Estimated Total Annual Burden: 867 hours.

The OCC issued a 60-day Federal Register notice on November 30, 2009. 74 FR 62634. No comments were received. Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: February 16, 2010.
Michele Meyer,
Assistant Director, Legislative & Regulatory Activities Division, Office of the Comptroller of the Currency.

[FR Doc. 2010-3375 Filed 2-19-10; 8:45 am]

BILLING CODE 4810-33-P